DEPARTMENT OF COMMERCE

National Oceanic and Atmospheric Administration

[RTID 0648-XB454]

Endangered and Threatened Species; Recovery Plan for Main Hawaiian Islands Insular False Killer Whale Distinct Population Segment

AGENCY: National Marine Fisheries Service (NMFS), National Oceanic and Atmospheric Administration (NOAA), Department of Commerce.

ACTION: Notice of availability.

SUMMARY: The National Marine Fisheries Service (NMFS) announces the adoption of a Final Endangered Species Act (ESA) Recovery Plan for the endangered main Hawaiian Islands insular false killer whale (MHI IFKW) distinct population segment (DPS). The Final Recovery Plan (Plan) and associated Recovery Implementation Strategy for this species are now available.

ADDRESSES: Electronic copies of the Final Recovery Plan and Recovery Implementation Strategy are available on the NMFS website at https://www.fisheries.noaa.gov/species/false-killer-whale#conservation-management.

FOR FURTHER INFORMATION CONTACT: Krista Graham, (808) 725-5152, krista.graham@noaa.gov; or Kristen Koyama, (301) 427-8456, kristen.koyama@noaa.gov.

SUPPLEMENTARY INFORMATION:

Background

The Endangered Species Act of 1973 (ESA), as amended (16 U.S.C. 1531 et seq.) requires that we develop and implement recovery plans for the conservation and survival of threatened and endangered species under our jurisdiction, unless it is determined that such plans would not promote the conservation of the species. We designated the MHI IFKW (Pseudorca crassidens) as an endangered DPS under the ESA on November 28, 2012 (77 FR 70915). We published a Notice of Availability of the Draft Recovery Plan and Recovery Implementation Strategy (Draft Plans) in the Federal Register on October 16, 2020 (85 FR 65791) to obtain comments on the Draft Plans. We revised the Draft Plans based on the six comment submissions received from five agencies/organizations and one U.S. citizen, and these versions now constitute the Plan and Recovery Implementation Strategy for the MHI IFKW DPS.

The Final Plan

Recovery plans describe actions beneficial for the conservation and recovery of species listed under the ESA. Section 4(f)(1) of the ESA requires that recovery plans include, to the extent practicable: (1) Objective, measurable criteria which, when met, would result in a determination that the species is no longer threatened or endangered; (2) site-specific management actions necessary to achieve the plan's goals; and (3) estimates of the time required and costs to achieve the recovery plan's goal. The ESA requires the development of recovery plans for each listed species unless a recovery plan would not promote its recovery.

The purpose of the Plan is to describe the vision of what a recovered MHI IFKW DPS looks like and the strategy or roadmap for how we plan to get to a recovered state. The goal of the Plan is to rebuild the extremely low population size while sufficiently abating threats, ultimately allowing for the species' removal from the Federal list of endangered and threatened species. The population should be large enough to be resilient to environmental variability over the coming decades as well as have a minimum of three social clusters with no more than half of the population within a single social cluster. This will ensure maximum genetic diversity and resiliency while still maintaining social connectedness. The recovery approach includes research, management, monitoring, and outreach to identify, reduce, or eliminate threats so the recovery objectives outlined in the Plan have the greatest likelihood of being achieved. Collectively, the goal, objectives, and criteria of the Plan represent NMFS' expectations of conditions to recover the MHI IFKW so the DPS no longer needs the protective measures provided by the ESA.

The recovery objectives and criteria in the Plan are based on the current literature as well as significant input from a variety of expert stakeholders. These experts, from a range of relevant disciplines including Federal and state agencies, scientists, commercial and recreational fishermen, conservation partners, and nongovernmental organizations, were convened during a four-day recovery planning workshop in 2016 to identify recovery criteria and actions to address threats to the species. Recovery criteria can be viewed as targets, or values, by which progress toward achievement of recovery objectives can be measured to make a downlisting (to threatened) and delisting decision. In the Plan, we frame recovery objectives and criteria in terms of both population parameters (demographic-based recovery criteria) and the five ESA listing factors found in the ESA section 4(a)(1) (threats-based recovery criteria). The demographic and threats-based recovery objectives and criteria for the MHI IFKW address threats from small population size, incidental take in fisheries, inadequate regulatory mechanisms, competition with fisheries for prey, environmental contaminants and biotoxins, anthropogenic noise, effects from climate change, and secondary threats and synergies. The Plan also includes the projected timeframe to recover the species, the estimated cost of implementing actions, and potential agencies/organizations involved with helping to recover the species.

Finally, accompanying the Plan is the Recovery Implementation Strategy, which is a flexible, operational document that provides specific, prioritized activities necessary to fully implement recovery actions in the Plan. This stepped-down approach will afford us the ability to modify these activities in real time to reflect changes in the information available as well as progress towards recovery. If/when the science indicates that meaningful changes to the recovery actions, objectives, and criteria are necessary, the Plan will be revised and go out for public comment.

How NMFS and Others Expect To Use the Plan

With adoption of this Plan, we will seek to implement the actions and activities for which we have authority and funding; encourage other Federal, state, and local agencies to implement recovery actions and activities for which they have responsibility, authority, and funding; and work cooperatively with the public and local stakeholders on implementation of other actions and activities. We expect the Plan to guide us and other Federal agencies in evaluating Federal actions under ESA section 7, as well as in implementing other provisions of the ESA, such as considering permits under section 10, and other statutes.

When we are considering a species for delisting, the agency will examine whether the ESA section 4(a)(1) listing factors have been addressed. To assist in this examination, we will use the delisting criteria described in the Plan, which include both demographic-based criteria and threats-based criteria addressing each of the ESA section 4(a)(1) listing factors, as well as any other relevant data and policy considerations.

Conclusion

NMFS has reviewed the Plan for compliance with the requirements of the ESA section 4(f), determined that it does incorporate the required elements, and is therefore adopting it as the Final Recovery Plan for the main Hawaiian Islands insular false killer whale DPS.

(Authority: 16 U.S.C. 1531 et seq.)

Dated: October 28, 2021.
Angela Somma,
Chief, Endangered Species Conservation Division, Office of Protected Resources, National Marine Fisheries Service.

[FR Doc. 2021-23899 Filed 11-2-21; 8:45 am]

BILLING CODE 3510-22-P